DEPARTMENT OF ENERGY

Federal Energy Regulatory Commission

Combined Notice of Filings

Take notice that the Commission has received the following Natural Gas Pipeline Rate and Refund Report filings:

Filings Instituting Proceedings

Docket Numbers: RP20-614-006.

Applicants: Transcontinental Gas Pipe Line Company, LLC.

Description: Compliance filing: RP20-614 & RP20-618 Stipulation and Agreement Tariff Record Filing to be effective 9/1/2020.

Filed Date: 8/30/21.

Accession Number: 20210830-5148.

Comment Date: 5 p.m. ET 9/13/21.

Docket Numbers: RP21-525-002.

Applicants: Midwestern Gas Transmission.

Description: Compliance filing: Motion to Place Suspended Revised Tariff Record into Effect to be effective 9/1/2021.

Filed Date: 08/30/21.

Accession Number: 20210830-5169.

Comment Date: 5 p.m. ET 9/13/21.

Docket Numbers: RP21-1060-000.

Applicants: Colorado Interstate Gas Company, L.L.C.

Description: § 4(d) Rate Filing: Annual Fuel and LU True Up Filing to be effective 10/1/2021.

Filed Date: 8/30/21.

Accession Number: 20210830-5088.

Comment Date: 5 p.m. ET 9/13/21.

Docket Numbers: RP21-1061-000.

Applicants: Southern Natural Gas Company, L.L.C.

Description: § 4(d) Rate Filing: Spire Bessemer #2 Negotiated Rate to be effective 9/1/2021.

Filed Date: 8/30/21.

Accession Number: 20210830-5116.

Comment Date: 5 p.m. ET 9/13/21.

Docket Numbers: RP21-1062-000.

Applicants: Transcontinental Gas Pipe Line Company, LLC.

Description: § 4(d) Rate Filing: Non-Conforming—Atlantic Sunrise—Southern Company Svcs to be effective 9/1/2021.

Filed Date: 8/31/21.

Accession Number: 20210831-5002.

Comment Date: 5 p.m. ET 9/13/21.

Docket Numbers: RP21-1063-000.

Applicants: Transcontinental Gas Pipe Line Company, LLC.

Description: § 4(d) Rate Filing: List of Non-Conforming Service Agreements and Negot Rate (ASR_Chief Rls to SCS) to be effective 9/1/2021.

Filed Date: 8/31/21.

Accession Number: 20210831-5003.

Comment Date: 5 pm ET 9/13/21.

Docket Numbers: RP21-1064-000.

Applicants: Cove Point LNG, LP.

Description: Compliance filing: Cove Point—2021 Revenue Crediting Report to be effective N/A.

Filed Date: 8/31/21.

Accession Number: 20210831-5030.

Comment Date: 5 p.m. ET 9/13/21.

Docket Numbers: RP21-1065-000.

Applicants: Eastern Gas Transmission and Storage, Inc.

Description: § 4(d) Rate Filing: EGTS—August 31, 2021 Nonconforming Service Agreements to be effective 10/1/2021.

Filed Date: 8/31/21.

Accession Number: 20210831-5033.

Comment Date: 5 p.m. ET 9/13/21.

Docket Numbers: RP21-1066-000.

Applicants: Stagecoach Pipeline & Storage Company LLC.

Description: § 4(d) Rate Filing: Stagecoach Pipeline & Storage Company LLC—Filing of Tariff Modifications to be effective 9/1/2021.

Filed Date: 8/31/21.

Accession Number: 20210831-5035.

Comment Date: 5 p.m. ET 9/13/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2021.
Debbie-Anne A. Reese,
Deputy Secretary.

[FR Doc. 2021-19205 Filed 9-3-21; 8:45 am]

BILLING CODE 6717-01-P